FEDERAL COMMUNICATIONS COMMISSION

47 CFR Part 64

[WC Docket No. 12-375; DA 20-1446; FRS 17293]

Petition for Reconsideration of Action in Proceeding

Correction

In proposed rule document 2020-27982 appearing on page 83000 in the issue of Monday, December 21, 2020, make the following correction:

(1) On page 83000, in the second column, in the DATES section, change “January 20, 2021” to read “January 21, 2021.”

[FR Doc. C1-2020-27982 Filed 1-12-21; 8:45 am]

BILLING CODE 1301-00-D